SOCIAL SECURITY ADMINISTRATION

[Docket No: SSA-2025-0651]

Agency Information Collection Activities: Comment Request

The Social Security Administration (SSA) publishes a list of information collection packages requiring clearance by the Office of Management and Budget (OMB) in compliance with Public Law 104-13, the Paperwork Reduction Act of 1995, effective October 1, 1995. This notice includes a revision of OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection to the OMB Desk Officer and SSA Reports Clearance Officer at the following addresses or fax numbers.

(OMB), Office of Management and Budget, Attn: Desk Officer for SSA

(SSA), Social Security Administration, OLCA, Attn: Reports Clearance Director, Mail Stop 3253 Altmeyer, 6401 Security Blvd., Baltimore, MD 21235, Fax: 833-410-1631, Email address: OR.Reports.Clearance@ssa.gov

Or you may submit your comments online through https://www.reginfo.gov/public/do/PRAmain by clicking on Currently under Review—Open for Public Comments and choosing to click on one of SSA's published items. Please reference Docket ID Number [SSA-2025-0651] in your submitted response.

SSA submitted the information collection below to OMB for clearance. Your comments regarding this information collection would be most useful if OMB and SSA receive them 30 days from the date of this publication. To be sure we consider your comments, we must receive them no later than December 24, 2025. Individuals can obtain copies of the OMB clearance package by writing to the OR.Reports.Clearance@ssa.gov.

Fee Agreement for Representation before the Social Security Administration—0960-0810. The Social Security Act requires individuals who represent a claimant before the agency and want to receive a fee for their services to obtain SSA's authorization of the fee. One way to obtain the authorization is to submit the fee agreement to the agency either in writing or through using Form SSA-1693, Fee Agreement for Representation before the Social Security Administration. Since representatives currently use fee agreements which vary in length, content, and complexity, submission of a free-form fee agreement may cause delays in SSA's review time. SSA encourages respondents to use Form SSA-1693 to submit the information either using the paper form or the electronically submittable e1693 through SSA's website. SSA uses the information from the SSA-1693 to review the request and authorize any fee to representatives who seek to charge and collect a fee from a claimant. The respondents are the representatives who help claimants through the application process, and the claimants who they represent.

Note: We are revising the burden for this information collection, and updating the Privacy Act Statement to comply with current legal requirements.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-1693 (paper) | 4,225 | 1 | 12 | 845 | * $60.26 | ** 16 | *** $118,833
e1693 | 1,745 | 1 | 13 | 378 | * 60.26 |  | *** 22,778
Written Agreements on Representative's Stationary | 1,575,773 | 1 | 20 | 525,257 | * 60.26 |  | *** 31,651,987
Totals | 1,581,743 |  |  | 526,480 |  |  | *** 31,793,598
* We based this figure on the averaged total of the average Lawyer's Legal Services wages, as reported by Bureau of Labor Statistics data, and the average U.S. worker's hourly wages, as reported by Bureau of Labor Statistics data (Occupational Employment and Wage Statistics).
** We based this figure on the average FY 2026 wait times for field offices (16 minutes), based on SSA's current management information data. This figure reflects the data posted on our public facing website (800 number performance | SSA) on the date we drafted this notice. As the figures fluctuate daily, the wait times may be different on the publication date of this notice. While we are including this theoretical cost, respondents typically choose to mail or fax the paper form rather than deliver the form in person to a field office.
** This figure does not represent actual costs that SSA is imposing on recipients of Social Security payments to complete this application; rather, these are theoretical opportunity costs for the additional time respondents will spend to complete the application. There is no actual charge to respondents to complete the application

Mark Steffensen,
General Counsel, Deputy Commissioner for Law and Policy, Social Security Administration.

[FR Doc. 2025-20652 Filed 11-21-25; 8:45 am]

BILLING CODE 4191-02-P